DEPARTMENT OF TRANSPORTATION

Federal Aviation Administration

14 CFR Part 39

[Docket No. 99-NM-174-AD; Amendment 39-11575; AD 2000-03-16]

RIN 2120-AA64

Airworthiness Directives; McDonnell Douglas Model MD-11 Series Airplanes

AGENCY: Federal Aviation Administration, DOT.

ACTION: Final rule.

SUMMARY: This amendment adopts a new airworthiness directive (AD), applicable to certain McDonnell Douglas Model MD-11 series airplanes, that requires a one-time visual inspection of the 90 percent brake pedal position switch to determine if certain date codes are present; and corrective action, if necessary. This amendment is prompted by reports indicating that the threaded insert connectors pulled free from the casing of the 90 percent brake pedal position switch, which allowed the insert connector contact to burn through the nose wheel steering cable. The actions specified by this AD are intended to prevent the threaded insert connector from pulling free from the casing of the 90 percent brake pedal position switch and burning through the nose wheel steering cable, which could result in reduced aircraft directional control while on the ground.

DATES: Effective March 23, 2000.

The incorporation by reference of certain publications listed in the regulations is approved by the Director of the Federal Register as of March 23, 2000.

ADDRESSES: The service information referenced in this AD may be obtained from Boeing Commercial Aircraft Group, Long Beach Division, 3855 Lakewood Boulevard, Long Beach, California 90846, Attention: Technical Publications Business Administration, Dept. C1-L51 (2-60). This information may be examined at the Federal Aviation Administration (FAA), Transport Airplane Directorate, Rules Docket, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

FOR FURTHER INFORMATION CONTACT: Brett Portwood, Aerospace Engineer, Systems and Equipment Branch, ANM-130L, FAA, Transport Airplane Directorate, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) to include an airworthiness directive (AD) that is applicable to certain McDonnell Douglas Model MD-11 series airplanes was published in the Federal Register on October 27, 1999 (64 FR 57816). That action proposed to require a one-time visual inspection of the 90 percent brake pedal position switch to determine if certain date codes are present; and corrective action, if necessary.

Interested persons have been afforded an opportunity to participate in the making of this amendment. Due consideration has been given to the comments received.

Support for the Proposal

One comment supports the proposed rule.

Request for Credit for Accomplishing Original Issue of Service Bulletin

The Air Transport Association (ATA) of America, on behalf of one of its members, requests that operators be given credit for prior accomplishment of McDonnell Douglas Service Bulletin MD11-24-71, dated June 29, 1994. (Revision 01 of that service bulletin was cited in the proposed rule as the appropriate source of service information for accomplishment of the required actions.)

The FAA concurs. Operators of airplanes on which the original issue of the service bulletin has been accomplished are given credit by a phrase that appears in paragraph (a) of the AD, as follows: “For airplanes on which McDonnell Douglas Service Bulletin MD11-24-71, dated June 29, 1994, has not been accomplished.” The effect of that phrase is to exclude airplanes on which the original issue of the service bulletin has been accomplished from the requirements of that paragraph, which contains the action required by this AD. No change to the final rule is necessary.

Correction of Typographical Error

The FAA has revised paragraph (a)(1) of this AD to correct a typographical error that appeared in the proposed rule. The word “not,” which was inadvertently included in that paragraph, has been removed from the final rule.

Conclusion

After careful review of the available data, including the comments noted above, the FAA has determined that air safety and the public interest require the adoption of the rule with the change previously described. The FAA has determined that this change will neither increase the economic burden on any operator nor increase the scope of the AD.

Cost Impact

There are approximately 91 Model MD-11 series airplanes of the affected design in the worldwide fleet. The FAA estimates that 33 airplanes of U.S. registry will be affected by this AD, that it will take approximately 1 work hour per airplane to accomplish the required actions, and that the average labor rate is $60 per work hour. Based on these figures, the cost impact of the AD on U.S. operators is estimated to be $1,980, or $60 per airplane.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-03-16 McDonnell Douglas: Amendment 39-11575. Docket 99-NM-174-AD.

Applicability: Model MD-11 series airplanes, as listed in McDonnell Douglas Alert Service Bulletin MD11-24A071, Revision 01, dated May 20, 1999; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the threaded insert connector from pulling free from the casing of the 90 percent brake pedal position switch and burning through the nose wheel steering cable, which could result in reduced aircraft directional control while on the ground, accomplish the following:

(a) For airplanes on which McDonnell Douglas Service Bulletin MD11-24-71, dated June 29, 1994, has not been accomplished: Within 12 months after the effective date of this AD, perform a one-time visual inspection of the 90 percent brake pedal position switch to determine the manufacturer's date code, in accordance with McDonnell Douglas Alert Service Bulletin MD11-24A071, Revision 01, dated May 20, 1999.

(1) If no manufacturer's date code 8944 through 9033 inclusive is found on the 90 percent brake pedal position switch, no further action is required by this AD.

(2) If any manufacturer's date code 8944 through 9033 inclusive is found on the 90 percent brake pedal position switch, prior to further flight, replace the 90 percent brake pedal position switch with a new switch, in accordance with the service bulletin.

(b) As of the effective date of this AD, no person shall install a 90 percent brake pedal switch that has a manufacturer's date code of 8944 through 9033 inclusive, on any airplane.

Alternative Methods of Compliance

(c) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with McDonnell Douglas Alert Service Bulletin MD11-24A071, Revision 01, dated May 20, 1999. This incorporation by reference was approved by the Director of the Federal Register in accordance with 5 U.S.C. 552(a) and 1 CFR part 51. Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

(f) This amendment becomes effective on March 23, 2000.

Issued in Renton, Washington, on February 10, 2000.
Donald L. Riggin,
Acting Manager, Transport Airplane Directorate, Aircraft Certification Service.

[FR Doc. 00-3614 Filed 2-16-00; 8:45 am]

BILLING CODE 4910-13-P